ENVIRONMENTAL PROTECTION AGENCY

[FRL-8286-9]

Science Advisory Board Staff Office; Notification of Multiple Public Teleconferences of the Science Advisory Board Hypoxia Advisory Panel

AGENCY: Environmental Protection Agency (EPA).

ACTION: Notice.

SUMMARY: The EPA's Science Advisory Board (SAB) Staff Office is announcing three public teleconferences of the SAB Hypoxia Advisory Panel and its subgroups to discuss its draft advisory working report concerning the hypoxic zone in the Gulf of Mexico.

DATES: The dates for the three teleconferences are:

(1) SAB Hypoxia Advisory Panel Subgroup 1 Characterization of the Causes Hypoxia Teleconference—April 2, 2007 from 9 a.m. to 12 p.m. Eastern Time;

(2) SAB Hypoxia Advisory Panel Subgroup 2 Characterization of Nutrient Fate, Transport, and Sources, and Subgroup 3 Scientific Basis for Goals and Management Options Teleconference—April 16, 2007 from 1 p.m. to 4 p.m. Eastern Time; and

(3) SAB Hypoxia Advisory Panel Teleconference—May 7, 2007 from 1 p.m. to 4 p.m. Eastern Time.

FOR FURTHER INFORMATION CONTACT: Members of the public who wish to obtain the teleconference call-in numbers and access codes to participate in the teleconferences may contact the following individuals.

(1) For the SAB Hypoxia Advisory Panel Subgroup 1—Characterization of the Causes of Hypoxia teleconference, contact Dr. Thomas Armitage, Designated Federal Officer (DFO), by telephone at (202) 343-9995, fax at (202) 233-0643, or e-mail at armitage.thomas@epa.gov.

(2) For the SAB Hypoxia Advisory Panel Subgroup 2—Characterization of Nutrient Fate, Transport, and Sources, and Subgroup 3—Scientific Basis for Goals and Management Options teleconference, contact Mr. David Wangsness, DFO for Subgroup 2, by telephone at (202) 343-9975, fax at (202) 233-0643, or e-mail at wangsness.david@epa.gov, or Dr. Holly Stallworth, DFO for Subgroup 3, by telephone at (202) 343-9867, fax at (202) 233-0643, or e-mail at stallworth.holly@epa.gov.

(3) Any member of the public wishing further information regarding the SAB Hypoxia Advisory Panel teleconference may contact Dr. Holly Stallworth, DFO, U.S. EPA Science Advisory Board Staff Office by telephone/voice mail at (202) 343-9867, or e-mail at stallworth.holly@epa.gov.

The SAB mailing address is: U.S. EPA, Science Advisory Board (1400F), 1200 Pennsylvania Avenue, NW., Washington, DC 20460. General information about the SAB, as well as any updates concerning the teleconferences announced in this notice, may be found in the SAB Web site at: http://www.epa.gov/sab.

SUPPLEMENTARY INFORMATION: Pursuant to the Federal Advisory Committee Act, Public Law 92-463, notice is hereby given that the SAB Hypoxia Advisory Panel will hold three teleconferences to discuss issues and recommendations for its draft advisory working report that details advances in the state of the science regarding hypoxia in the Northern Gulf of Mexico. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: EPA participates with other Federal agencies, states and tribes in the Mississippi River/Gulf of Mexico Watershed Nutrient Task Force. In 2001, the Task Force released the Action Plan for Reducing, Mitigating and Controlling Hypoxia in the Northern Gulf of Mexico (or Action Plan available at http://www.epa.gov/msbasin/taskforce/actionplan.htm). The Action Plan was informed by the science described in An Integrated Assessment of Hypoxia in the Northern Gulf of Mexico (or Integrated Assessment available at http://www.noaa.gov/products/hypox_finalfront.pdf) developed by the National Science and Technology Council, Committee on Environment and Natural Resources. Six technical reports provided the scientific foundation for the Integrated Assessment and are available at http://www.nos.noaa.gov/products/pub_hypox.html. The aforementioned documents provide a comprehensive summary of the state-of-the-science for the Gulf of Mexico hypoxic zone through about the year 2000. EPA's Office of Water has requested that the SAB develop a report that evaluates the state-of-the-science regarding the causes and extent of hypoxia in the Gulf of Mexico, as well as the scientific basis of possible management options in the Mississippi River Basin.

In response to EPA's request, the SAB Staff Office formed the SAB Hypoxia Advisory Panel. Background on the Panel formation process was provided in a Federal Register notice published on February 17, 2006 (71 FR 8578-8580). The SAB Hypoxia Advisory Panel met on September 6-7, 2006 (noticed in 71 FR 45543-45544), December 6-8, 2006 (noticed in 71 FR 66329-66330), and again on February 28-March 1, 2007 (noticed in 72 FR 5968-5969). Teleconferences of the full Hypoxia Advisory Panel and its three subgroups were also published in Federal Register Notices (71 FR 55786-55787, 71 FR 59107 and 71 FR 77743-77744). Information about the SAB Hypoxia Advisory Panel is available on the SAB Web site at: http://www.epa.gov/sab.

Availability of Meeting Materials: Agendas for the teleconferences will be placed on the SAB Web site at: http://www.epa.gov/sab in advance.

Procedures for Providing Public Input: The SAB Staff Office accepts written public statements of any length, and accommodates oral public statements whenever possible. The SAB Staff Office expects that public statements presented at SAB meetings will not repeat previously submitted oral or written statements. Oral Statements: In general, individuals or groups requesting an oral presentation at a teleconference meeting will usually be limited to three minutes per speaker with no more than a total of fifteen minutes for all speakers. Interested parties should contact the appropriate DFO at the contact information provided above in writing via e-mail at least 10 days prior to the scheduled teleconference to be placed on the public speaker list for the teleconference. Speakers should provide an electronic copy of their statements to the DFO for distribution to interested parties and participants in the meeting. Written Statements: Written statements should be received in the SAB Staff Office at least seven days before the scheduled teleconferences so that the statements may be made available to the Panel for their consideration. Statements should be supplied to the appropriate DFO at the address and contact information provided above in the following formats: one hard copy with original signature, and one electronic copy via e-mail (acceptable file format: Adobe Acrobat, WordPerfect, Word, or Rich Text files in IBM-PC/Windows 98/2000/XP format).

Meeting Accommodations: Individuals requiring special accommodation to access the teleconferences should contact the appropriate DFO at the phone number or e-mail address noted above at least five business days prior to the meeting so that appropriate arrangements can be made.

Dated: March 7, 2007.
Anthony F. Maciorowski,
Deputy Director, EPA Science Advisory Board Staff Office.

[FR Doc. E7-4532 Filed 3-12-07; 8:45 am]

BILLING CODE 6560-50-P